Title 3—

The President

Presidential Determination No. 2000-12 of February 10, 2000

United States Military Activities in East Timor

Memorandum for the Secretary of State

Pursuant to the authority vested in me as President, including under sections 10(d)(1) and 10(a)(2)(B) of the United Nations Participation Act of 1945, as amended (22 U.S.C. 287 et seq.) (the “Act”), I hereby:

(a) determine that the deployment of United States military forces to support East Timor's transition to independence without reimbursement from the United Nations is important to the security interests of the United States; and

(b) delegate to you the authority contained in section 10(d)(1) of the Act with respect to assistance to support East Timor's transition to independence that is covered by section 10 of the Act.

You are authorized and directed to report this determination to the Congress and to arrange for its publication in the Federal Register.

wj

THE WHITE HOUSE,

Washington, February 10, 2000.

[FR Doc. 00-4097

Filed 2-17-00; 8:45 am]

Billing code 4710-10-M